FEDERAL MARITIME COMMISSION

Sunshine Act Meeting

AGENCY HOLDING THE MEETING: Federal Maritime Commission.

TIME AND DATE: November 18, 2016-3:30 p.m.

PLACE: 800 North Capitol Street NW., First Floor Hearing Room, Washington, DC.

STATUS: The Commission Meeting held Thursday, November 17, 2016 will reconvene on Friday, November 18, 2016 for consideration of Closed Item 4: THE Alliance Agreement, FMC Agreement No. 012439. The meeting will be held in Closed Session.

MATTERS TO BE CONSIDERED:

Closed Session

4. THE Alliance Agreement, FMC Agreement No. 012439

CONTACT PERSON FOR MORE INFORMATION: Rachel E. Dickon, Assistant Secretary, (202) 523-5725.

Rachel E. Dickon,
Assistant Secretary.

[FR Doc. 2016-28170 Filed 11-18-16; 11:15 am]

BILLING CODE 6730-01-P